DEPARTMENT OF TRANSPORTATION

Federal Aviation Administration

[Policy Statement Number PS-ACE100-2001-02]

Small Airplane Directorate Policy on Flammability Testing

AGENCY: Federal Aviation Administration, DOT.

ACTION: Notice of issuance and availability.

SUMMARY: This notice announces a Federal Aviation Administration (FAA) policy on flammability testing of materials used in small airplanes. This notice advises the public, especially manufacturers of normal, utility, and acrobatic category airplanes, and commuter category airplanes used in non-scheduled service and their suppliers, that the FAA has adopted a new policy concerning flammability testing. This notice is necessary to advise the public of methods to obtain copies of this final FAA policy.

EFFECTIVE DATE: The subject final policy was issued on January 23, 2002, and became effective on that date.

DISCUSSION: On August 3, 2001, the Small Airplane Directorate issued a proposed policy statement. We made the proposed policy statement available to the public (66 FR 42703, August 14, 2001) and to all manufacturers for their comments. The comment period closed September 13, 2001, and all comments were considered before the final policy was issued.

ADDRESSES: Copies of the final policy statement, PS-ACE100-2001-02, may be requested from the following: Small Airplane Directorate, Standards Office (ACE-110), Aircraft Certification Office, Federal Aviation Administration, 901 Locust, Room 301, Kansas City, MO 64106. The policy statement is also available on the Internet at the following address http://www.faa.gov/certification/aircraft/small_airplanes_advisory.html.

FOR FURTHER INFORMATION CONTACT: Leslie B. Taylor, Federal Aviation Administration, Small Airplane Directorate, Regulations & Policy, ACE-111, 901 Locust, Room 301, Kansas City, Missouri 64106; telephone (816) 329-4134; fax: 816-329-4090; e-mail: leslie.b.taylor@faa.gov.

Issued in Kansas City, Missouri on January 29, 2002.
Marvin Nuss,
Acting Manager, Small Airplane Directorate, Aircraft Certification Service.

[FR Doc. 02-4412 Filed 2-22-02; 8:45 am]

BILLING CODE 4910-13-P